DEPARTMENT OF AGRICULTURE

Rural Business-Cooperative Service

Announcement of Value-Added Producer Grant Application Deadlines

AGENCY: Rural Business-Cooperative Service, USDA.

ACTION: Notice of solicitation of applications.

SUMMARY: The Rural Business-Cooperative Service (RBS) announces the availability of approximately $19.475 million in competitive grant funds for fiscal year (FY) 2006 to help independent agricultural producers enter into value-added activities. Of this amount, $1.5 million is set aside for applicants requesting $25,000 or less. Awards may be made for planning activities or for working capital expenses, but not for both. The maximum grant amount for a planning grant is $100,000 and the maximum grant amount for a working capital grant is $300,000.

DATES: You may submit completed applications for grants on paper or electronically according to the following deadlines:

Paper copies must be postmarked and mailed, shipped, or sent overnight no later than March 31, 2006, to be eligible for FY 2006 grant funding. Late applications are not eligible for FY 2006 grant funding.

Electronic copies must be received by March 31, 2006 to be eligible for FY 2006 grant funding. Late applications are not eligible for FY 2006 grant funding.

ADDRESSES: You may obtain application guides and materials for a VAPG at http://www.rurdev.usda.gov/rbs/coops/vadg.htm or by contacting your USDA Rural Development State Office. You can reach your State Office by calling (202) 720-4323 and pressing “1”.

Submit completed paper applications for a grant to Cooperative Programs, Attn: VAPG Program, Mail Stop 3250, Room 4016-South, 1400 Independence Ave., SW., Washington, DC 20250-3250. The phone number that should be used for FedEx packages is (202) 720-7558.

Submit electronic grant applications at http://www.grants.gov, following the instructions found on this Web site.

FOR FURTHER INFORMATION CONTACT: Visit the program Web site at http://www.rurdev.usda.gov/rbs/coops/vadg.htm, which contains application guidance, including Frequently Asked Questions and an Application Guide. Or you may contact your USDA Rural Development State Office. You can reach your State Office by calling (202) 720-4323 and pressing “1”, or by selecting the State Contacts link at the above Web site. Applicants are encouraged to contact their State Offices well in advance of the deadline to discuss their projects and ask any questions about the application process.

SUPPLEMENTARY INFORMATION:

Overview

Federal Agency: Rural Business-Cooperative Service.

Funding Opportunity Title: Value-Added Producer Grants.

Announcement Type: Initial announcement.

Catalog of Federal Domestic Assistance Number: 10.352.

Dates: Application Deadline: You may submit completed applications for grants on paper or electronically according to the following deadlines:

Paper copies must be postmarked and mailed, shipped, or sent overnight no later than March 31, 2006, to be eligible for FY 2006 grant funding. Late applications are not eligible for FY 2006 grant funding.

Electronic copies must be received by March 31, 2006 to be eligible for FY 2006 grant funding. Late applications are not eligible for FY 2006 grant funding.

I. Funding Opportunity Description

This solicitation is issued pursuant to section 231 of the Agriculture Risk Protection Act of 2000 (Pub. L. 106-224) as amended by section 6401 of the Farm Security and Rural Investment Act of 2002 (Pub. L. 107-171 (see 7 U.S.C. 1621 note)) authorizing the establishment of the Value-Added Agricultural Product Market Development grants, also known as Value-Added Producer Grants. The Secretary of Agriculture has delegated the program's administration to USDA's Rural Business-Cooperative Service.

The primary objective of this grant program is to help eligible independent producers of agricultural commodities, agriculture producer groups, farmer and rancher cooperatives, and majority-controlled producer-based business ventures develop strategies to create marketing opportunities and to help develop business plans for viable marketing opportunities. RBS will competitively award grants to fund one of the following two activities: (1) Planning activities needed to establish a viable value-added marketing opportunity for an agricultural product (e.g. conduct a feasibility study, develop a business plan, develop a marketing plan); or (2) acquire working capital to operate a value-added business venture that will allow producers to better compete in domestic and international markets. In order to provide program benefits to as many eligible applicants as possible, applications can only be for one or the other of these two activities, but not both. Applicants must limit their proposals to emerging markets. Grants will only be awarded if projects or ventures are determined to be economically viable and sustainable. These grants will facilitate greater participation in emerging markets and new markets for value-added products. No more than 10 percent of program funds can go to applicants that are majority-controlled producer-based business ventures.

Definitions

The definitions at 7 CFR 4284.3 and 4284.904 are incorporated by reference.

Bioenergy Project—A Renewable Energy system that produces fuel, thermal energy, or electric power from a Biomass source, other than an anaerobic digester.

Biomass—Any organic material that is available on a renewable or recurring basis, including agricultural crops; trees grown for energy production; wood waste and wood residues; plants, including aquatic plants and grasses; fibers; animal waste and other waste materials; and fats, oils, and greases, including recycled fates, oils, and greases. It does not include paper that is commonly reclycled or unsegregated solid waste.

Farm or Ranch—Any place from which $1,000 or more of agricultural products (crops and livestock) were raised and sold or normally would have been raised and sold during the previous year.

Feasibility Study—An analysis of the economic, market, technical, financial, and management feasibility of a proposed Project.

Project—Includes all proposed activities to be funded by the VAPG and matching funds.

Renewable Energy—Energy derived from a wind, solar, biomass, or geothermal source; or hydrogen derived from biomass or water using wind, solar, biomass, or geothermal energy sources.

Venture—Includes the project and any other activities related to the production, processing, and marketing of the value-added product that is the subject of the VAPG request.

II. Award Information

Type of Award: Grant.

Fiscal Year Funds: FY 2006.

Approximate Total Funding: $19.475 million.

Approximate Number of Awards: 250.

Approximate Average Award: $78,000.

Floor of Award Range: None.

Ceiling of Award Range: $25,000 for set-aside grants; $100,000 for Planning Grants; and $300,000 for Working Capital Grants.

Anticipated Award Date: August 31, 2006.

Budget Period Length: 12 months.

Project Period Length: 12 months.

III. Eligibility Information

A. Eligible Applicants

Applicants must be an independent producer, agriculture producer group, farmer or rancher cooperative, or majority-controlled producer-based business venture as defined in 7 CFR 4284, subpart A. If the applicant is an unincorporated group (steering committee), it must form a legal entity before the grant agreement can be signed. Please note that a steering committee may only apply as an independent producer. Therefore, the steering committee must be composed of 100 percent independent producers and the business to be formed must be owned by 100 percent independent producers.

B. Cost Sharing or Matching

Matching funds are required. Applicants must verify in their applications that matching funds are available for the time period of the grant. Matching funds must be at least equal to the amount of grant funds requested. Unless provided by other authorizing legislation, other Federal grant funds cannot be used as matching funds. Matching funds must be spent at a rate equal to or greater than the rate at which grant funds are expended. Matching funds must be provided by either the applicant or by a third party in the form of cash or in-kind contributions. Matching funds must be spent on eligible expenses and must be from eligible sources.

C. Other Eligibility Requirements

Product Eligibility: The project proposed must involve a value-added product as defined in 7 CFR 4284, subpart A. There are four categories of value-added. The first category is the incremental value that is realized by the producer from an agricultural commodity or product as the result of a change in its physical state. The second category is the incremental value that is realized by the producer from an agricultural commodity or product as the result of differentiated production or marketing, as demonstrated in a business plan. The third category is the incremental value that is realized by the producer from an agricultural commodity or product as the result of product segregation. The fourth category is the economic benefit realized from the production of farm- or ranch-based renewable energy. Applicants should note that a project meeting only the second category of value-added must already have a business plan in place at the time of application. The applicant must reference this business plan in the application. Because of this requirement, projects meeting only the second category of value-added will be ineligible to apply for a planning grant. In order to be eligible under the fourth category, the project must generate energy on-farm or on-ranch.

Activity Eligibility: The project proposed must specify whether grant funds are requested for planning activities or for working capital. Applicants may not request funds for both types of activities in one application.

If the grant request is for planning activities, working capital expenses are not eligible for funding. If more than 20 percent of the total project cost (both grant and matching funds) for a planning activities application is for working capital expenses, the entire application will be determined to be ineligible and will not be considered for funding. However, if an application with 20 percent or less of working capital expenses is selected for funding, all working capital expenses must be removed from the project and replaced with eligible planning expenses or the amount of the grant award will be reduced accordingly.

If the grant request is for working capital, planning activities are not eligible for funding. If more than 20 percent of the total project cost (both grant and matching funds) for a working capital application is for planning activities, the entire application will be determined to be ineligible and will not be considered for funding. However, if an application with 20 percent or less of planning expenses is selected for funding, all planning expenses must be removed from the project and replaced with eligible working capital expenses or the amount of the grant award will be reduced accordingly.

Applicants that propose budgets that include more than 10 percent of total project costs that are ineligible for the program will be ineligible and the application will not be considered for funding. However, if an application with 10 percent or less of ineligible costs is selected for funding, all ineligible costs must be removed from the project and replaced with eligible activities or the amount of the grant award will be reduced accordingly.

Applicants other than independent producers applying for a working capital grant must demonstrate that the venture has not been in operation more than two years at the time of application in order to show that they are entering an emerging market.

Grant Period Eligibility: Applications that have a timeframe of more than 365 days will be considered ineligible and will not be considered for funding. Applications that request funds for a time period ending after December 31, 2007, will not be considered for funding.

Completeness Eligibility: Applications without sufficient information to determine eligibility will not be considered for funding. Applications that are missing any required elements (in whole or in part) will not be considered for funding, except for exceptions noted in the following paragraphs.

Multiple Grant Eligibility: An applicant may not receive more than one grant in any one funding cycle. An applicant may submit multiple applications, but if more than one application scores high enough to be funded, only the highest ranked application will be funded.

Applicants who have already received a planning grant for the proposed project cannot receive another planning grant for the same project. Applicants who have already received a working capital grant for a project cannot receive any additional grants for that project. Please note that the Agency penalizes an applicant who is applying for a planning grant when it has already received a planning grant or who is applying for a working capital grant when it has already received a working capital grant by deducting ten points from the applicant's score under Section V.1.ix. and V.2.ix.

Current Grant Eligibility: If an applicant currently has a VAPG, the grant period for that grant must be scheduled to expire by December 31, 2006.

IV. Application and Submission Information

A. Address To Request Application Package

If you plan to apply using a paper application, you can obtain the application package for this funding opportunity at http://www.rurdev.usda.gov/rbs/coops/vadg.htm. If you do not have access to the Internet, or if you have difficulty accessing the forms online, you may contact your USDA Rural Development State Office. You can reach your State Office by calling (202) 720-4323 and pressing “1”. Application forms can be mailed to you. If you plan to apply electronically, you must visit http://www.grants.gov and follow the instructions.

B. Content and Form of Submission

You may submit your application in paper or in an electronic format. You may view the Application Guide at http://www.rurdev.usda.gov/rbs/coops/vadg.htm. It is recommended that applicants use the template provided on the Web site. The template can be filled out electronically and printed out for submission with the required forms for a paper submission or it can be filled out electronically and submitted as an attachment through Grants.gov.

If you submit your application in paper form, you must submit one signed original of your complete application. The application must be in the following format:

Font size: 12 point unreduced.

Paper size: 8.5 by 11 inches.

Page margin size: 1 inch on the top, bottom, left, and right.

Printed on only one side of each page.

Held together only by rubber bands or metal or plastic clips; not bound in any other way.

Language: English, avoid jargon.

The submission must include all pages of the application.

It is recommended that the application is in black and white, and not color. Those evaluating the application will only receive black and white images.

If you submit your application electronically, you must follow the instructions given at http://www.grants.gov. Applicants are advised to visit the site well in advance of the application deadline if they plan to apply electronically to insure that they have obtained the proper authentication and have sufficient computer resources to complete the application.

An application must contain all of the following elements. Any application that is missing any element or contains an incomplete element will not be considered for funding:

1. Form SF-424, “Application for Federal Assistance.” In order for this form to be considered complete, it must contain the legal name of the applicant, the applicant's Dun and Bradstreet Data Universal Numbering System (DUNS) number (individuals and steering committees are exempt), the applicant's complete mailing address, the name and telephone number of a contact person, the employer identification number (EIN) or social security number if the applicant is an individual or steering committee, the start and end dates of the project, the federal funds requested, other funds that will be used as matching funds, an answer to the question, “Is applicant delinquent on any Federal debt?,” the name and signature of an authorized representative (if the signature is of anyone other than a stated owner of the proposed venture, the application should include a signed statement by either the owner(s) of the entity or the governing board stating that the signature is made by an authorized person), the telephone number of the authorized representative, and the date the form was signed. Other information requested on the form may be applicable, but the above-listed information is required for an application to be considered complete. Please note that if the applicant applies as a steering committee, it will be required to form a legal entity and must report a DUNS number and an EIN prior to final approval of the grant agreement.

You are required to have a DUNS number to apply for a grant from RBS unless you are an individual or a steering committee. The DUNS number is a nine-digit identification number, which uniquely identifies business entities. Obtaining a DUNS number is easy and there is no charge. To obtain a DUNS number, access http://www.dnb.com/us/ or call (866) 705-5711. Additional information on the VAPG program can be obtained at http://www.rurdev.usda.gov/rbs/coops/vadg.htm or contact your Rural Development State Office. You can reach your State Office by calling (202) 720-4323 and pressing “1”.

2. Form SF-424A, “Budget Information—Non-Construction Programs.” In order for this form to be considered complete, the applicant must fill out Sections A, B, C, and D. The applicant must include both federal and matching funds.

3. Form SF-424B, “Assurances—Non-Construction Programs.” In order for this form to be considered complete, the form must be signed by an authorized official (if the signature is of anyone other than a stated owner of the proposed Venture, the application should include a signed statement by either the owner(s) of the entity or the governing body stating that the signature is made by an authorized person) and include the title, name of applicant, and date submitted.

4. Survey on Ensuring Equal Opportunity for Applicants. Submission of this form is voluntary for non-profit applicants only. For-profit applicants should not submit this form.

5. Title Page. The title page must include the title of the project as well as any other relevant identifying information. The length should not exceed one page.

6. Table of Contents. For ease of locating information, each proposal must contain a detailed Table of Contents (TOC) immediately following the title page. The TOC must include page numbers for each component of the proposal. Pagination should begin immediately following the TOC. In order for this element to be considered complete, the TOC must include page numbers for the executive summary, an eligibility discussion, the proposal narrative and its subcomponents (project title, information sheet, goals of the project, work plan, performance evaluation criteria and proposal evaluation criteria), conflict of interest disclosure, certification of judgment, verification of matching funds and certification of matching funds.

7. Executive Summary. A summary of the proposal, not to exceed one page, must briefly describe the project, including goals, tasks to be completed and other relevant information that provides a general overview of the project. In this section the applicant must clearly state whether the proposal is for a planning grant or a working capital grant and the amount requested. In the event an applicant submits more than one page for this element, only the first page submitted will be considered.

8. Eligibility Discussion. A detailed discussion, not to exceed four (4) pages, describing how the applicant meets the eligibility requirements. In the event that more than 4 pages are submitted, only the first 4 pages will be considered.

i. Applicant Eligibility. The applicant must first describe how it meets the definition of an independent producer, agriculture producer group, farmer or rancher cooperative, or a majority-controlled producer-based business venture as defined in 7 CFR 4284, subpart A. The applicant must apply as only one type of applicant.

If the applicant is an independent producer, the proposal must demonstrate that 100 percent of the owners of the business applying meet the definition of an independent producer. These owners must currently own and produce more than 50 percent of the raw commodity that will be used for the value-added product. The applicant must also demonstrate that the product is owned by the producers from its raw commodity state through the production of the value-added product. Note that farmer or rancher cooperatives that are 100 percent-owned by independent producers are not considered under the independent producer category; these applicants must apply as farmer or rancher cooperatives. Also, note that entities that contract out the production of an agricultural commodity are not considered independent producers.

If the applicant is an agriculture producer group, it must state its mission and demonstrate that its mission includes working on behalf of independent producers. The applicant must also demonstrate that the majority of its membership and board of directors are comprised of independent producers. The applicant must identify (either by name or by class) the independent producers on whose behalf the work will be done. These producers must currently own and produce more than 50 percent of the raw commodity that will be used for the value-added product. Note that applicants tentatively selected for a grant award must verify that the work will be done on behalf of the independent producers identified in the application. Also, note that entities that contract out the production of an agricultural commodity are not considered independent producers.

If the applicant is a farmer or rancher cooperative, the applicant must reference the business' good standing as a cooperative in its state of incorporation. The applicant must also explain how the cooperative is 100 percent owned and controlled by agricultural producers. If a cooperative is not 100 percent owned and controlled by agricultural producers, it may still be eligible to apply as a majority-controlled producer-based business venture, provided it meets the definition in 7 CFR 4284, subpart A. If the applicant is applying on behalf of only a portion of its membership, that portion must be identified, and the applicant must demonstrate that all members in this portion of its membership meet the definition of independent producers. The independent producers must currently own and produce more than 50 percent of the raw commodity that will be used for the value-added product. Note that applicants tentatively selected for a grant award must verify that the work will be done on behalf of the independent producers identified in the application. Also, note that entities that contract out the production of an agricultural commodity are not considered independent producers.

If the applicant is a majority-controlled producer-based business venture, the applicant must demonstrate that more than 50 percent of the ownership and control is held by independent producers, or, partnerships, LLCs, LLPs, corporations or cooperatives that are themselves 100 percent owned and controlled by independent producers. It is the Agency's position that the majority ownership must exist both in terms of financial interest and in terms of the number of owners. The applicant must state number of owners who are independent producers and the number of owners who are not independent producers. The applicant must also state the independent producers' financial interest and the non-independent producers' financial interest. The applicant must also demonstrate that independent producers have majority control over the business. Majority control must be demonstrated through voting rights on the governing body of the business venture.

The majority of voting rights must belong to independent producers who currently own and produce more than 50 percent of the raw commodity that will be used for the value-added product. Also, note that entities that contract out the production of an agricultural commodity are not considered independent producers.

ii. Product Eligibility. The applicant must next describe how the value-added product to be produced meets at least one of the categories in the definition of “value-added” as defined in 7 CFR 4284, subpart A. Regardless of which category is met, the applicant must describe the raw commodity that will be used, the process used to add value, and the value-added product that will be marketed.

If the product meets the first category, the application must explain how the change in physical state or form of the product enhances its value. A change in physical state is only achieved if the product cannot be returned to its original state. Examples of this type of product include: Fish fillets, diced tomatoes, ethanol, bio-diesel, and wool rugs.

If the product meets the second category, the proposal must explain how the production or marketing of the commodity enhances the value-added product's value. The enhancement of value must be quantified by using a comparison with value-added products produced or marketed in the standard manner. Examples of this type of product include: Organic carrots, identity-preserved apples, and branded milk. Also, a business plan that has been developed for the applicant for the project must be referenced.

If the product meets the third category, the proposal must explain how the physical segregation of a commodity or product enhances its value. The enhancement of value should be quantified, if possible, by using a comparison with commodities marketed without segregation. An example of this type of product is non-genetically-modified corn. Applicants should note that simply sorting produce or livestock by grade is not sufficient to meet this definition. Applicants must demonstrate that a physical barrier separates the commodity from similar commodities during production, that the commodity will continue to be separated during processing, and that the value-added product produced will be separated from similar products during marketing.

If the product meets the fourth category, the proposal must explain how the renewable energy will be generated on a farm or ranch owned by the owners of the venture. Please note that the owners of the farm or ranch must currently produce an agricultural commodity and the farm or ranch must meet the definition of a farm or ranch as defined in the “Definitions” section of this notice. Applicants should also note that ethanol and bio-diesel do not meet this definition unless the energy is generated on a farm or ranch.

iii. Purpose Eligibility. The applicant must describe how the project purpose is eligible for funding. The project purpose is comprised of two components. First, the applicant must describe how the proposed project consists of eligible planning activities or eligible working capital activities. Second, the applicant must demonstrate that the activities are directly related to the processing and/or marketing of a value-added product. If the applicant is applying for a working capital grant, it must reference a third-party, independent feasibility study and a business plan that have been completed specifically for the proposed Project. If the applicant is applying for a working capital grant and it is an agriculture producer group, a farmer or rancher cooperative, or a majority-controlled producer-based business venture, it must demonstrate that its proposed venture has been in operation for less than two years at the time of application, in order to show that the applicant is entering an emerging market.

9. Proposal Narrative. The narrative, not to exceed 35 pages, must include the following information. In the event that more than 35 pages are submitted, only the first 35 pages submitted will be considered.

i. Project Title. The title of the proposed project must be brief, not to exceed 75 characters, yet describe the essentials of the project. It should match the project title submitted on the SF-424. The project title does not need to appear on a separate page. It can be included on the title page and/or on the information sheet.

ii. Information Sheet. A separate one page information sheet listing each of the evaluation criteria referenced in this funding announcement followed by the page numbers of all relevant material contained in the proposal that address or support each criterion.

iii. Goals of the Project. A clear statement of the ultimate goals of the project. There must be an explanation of how a market will be expanded and the degree to which incremental revenue will accrue to the benefit of the agricultural producer(s).

iv. Work Plan. The narrative must contain a description of the project and set forth the tasks involved in reasonable detail. The description should specify the activity, who will perform the activity, during what time frame the activity will take place, and the cost of the activity. Please note that one of the proposal evaluation criteria evaluates the work plan and budget. Applicants should only submit the work plan and budget once, either in this section or as part of the work plan/budget evaluation criterion discussion.

v. Working capital applications must also include three (3) years of pro forma financial statements, including an explanation of all assumptions, such as input prices, finished product prices, and other economic factors used to generate the financial statements. The financial statements must include cash flow statements, income statements, and balance sheets. Income statements and cash flow statements must be monthly for the first year, then annual for the next two years. The balance sheet should be annual for all three years. The financial statements will not count as part of the 35 page limit for the narrative section of the proposal.

vi. Performance Evaluation Criteria. Applicants applying for planning grants must suggest at least one criterion by which their performance under a grant could be evaluated. Applicants applying for working capital grants must identify their current customer base, their current revenue accruing to independent producers, and the current number of jobs existing for the venture. Working capital projects with significant energy components must also report current capacity (e.g. gallons of ethanol produced annually, megawatt hours produced annually). Working capital grant applicants may also suggest additional performance evaluation criteria for incorporation into the grant award. Any suggested criteria are not binding on USDA. Please note that these criteria are different from the proposal evaluation criteria and are a separate requirement. Failure to address this criterion by the application deadline will result in a determination of incomplete and the proposal will not be considered for funding.

vii. Proposal Evaluation Criteria. Each of the proposal evaluation criteria referenced in this funding announcement must be addressed, specifically and individually, in narrative form. Failure to address the appropriate evaluation criteria (planning grant proposals must address planning grant evaluation criteria and working capital grant proposals must address working capital grant evaluation criteria) by the application deadline will result in a determination of incomplete and the proposal will not be considered for funding.

10. Conflict of Interest Disclosure. If the applicant plans to conduct business with any family members, company owners, or other identities of interest using grant or matching funds, the nature of the business to be conducted and the nature of the relationship between the applicant and the identity of interest must be disclosed. Examples include in-kind matching funds donated by the applicant's immediate family and contracting with someone who has a financial interest in the Venture for services paid by grant or matching funds. If the applicant believes that no conflicts of interest exist with respect to its proposed project, it must state that belief.

11. Certification of Judgment. Applicants must certify that the United States has not obtained a judgment against them. No grant funds shall be used to pay a judgment obtained by the United States. It is suggested that applicants use the following language for the certification. “[INSERT NAME OF APPLICANT] certifies that the United States has not obtained a judgment against it.” A separate signature is not required.

12. Verification of Matching Funds. Applicants must provide a budget to support the work plan showing all sources and uses of funds during the project period. Applicants will be required to verify matching funds, both cash and in-kind. All proposed matching funds must be specifically documented in the application. If matching funds are to be provided by the applicant in cash, a copy of a bank statement with an ending date within 30 days of the application submission is required. The bank statement must show an ending balance equal to or greater than the amount of cash matching funds proposed. If the matching funds will be provided through a loan or line of credit, the applicant must include a statement from the lending institution verifying the amount available, the time period of availability of the funds, and the purposes for which funds may be used. If the matching funds are to be provided by an in-kind contribution from the applicant, the application must include a signed letter from an authorized representative of the applicant verifying the goods or services to be donated, when the goods and services will be donated, and the value of the goods or services. Applicants should note that only goods or services for which no expenditure is made can be considered in-kind. If the applicant is paying for goods and services as part of the matching funds contribution, the expenditure is considered a cash match, and should be verified as such. If the matching funds are to be provided by a third party in cash, the application must include a signed letter from that third party verifying how much cash will be donated and when it will be donated. Verification for funds donated outside the proposed time period of the grant will not be accepted. If the matching funds are to be provided by a third party in-kind donation, the application must include a signed letter from the third party verifying the goods or services to be donated, when the goods and services will be donated, and the value of the goods or services. Verification for in-kind contributions donated outside the proposed time period of the grant will not be accepted. Verification for in-kind contributions that are over-valued will not be accepted. The valuation process for the in-kind funds does not need to be included in the application, especially if it is lengthy, but the applicant must be able to demonstrate how the valuation was achieved at the time of notification of tentative selection for the grant award. If the applicant cannot satisfactorily demonstrate how the valuation was determined, the grant award may be withdrawn or the amount of the grant may be reduced.

If matching funds are in cash, they must be spent on goods and services that are eligible expenditures for this grant program. If matching funds are in-kind contributions, the donated goods or services must be considered eligible expenditures for this grant program. The matching funds must be spent or donated during the grant period and the funds must be expended at a rate equal to or greater than the rate grant funds are expended. Some examples of acceptable uses for matching funds are: Skilled labor performing work required for the proposed Project, office supplies, and purchasing inventory. Some examples of unacceptable uses of matching funds are: Land, fixed equipment, buildings, and vehicles.

Expected program income may not be used to fulfill the matching funds requirement at the time of application. If program income is earned during the time period of the grant, it may be used to replace other sources of matching funds if prior approval is received from the Agency. Any program income earned during the grant period is subject to the requirements of 7 CFR 3015, subpart F and 3019.24.

If acceptable verification for all proposed matching funds is missing from the application by the application deadline, the application will be determined to be incomplete and will not be considered for funding.

13. Certification of Matching Funds. Applicants must certify that matching funds will be available at the same time grant funds are anticipated to be spent and that matching funds will be spent in advance of grant funding, such that for every dollar of grant funds advanced, not less than an equal amount of matching funds will have been expended prior to submitting the request for reimbursement. Please note that this certification is a separate requirement from the verification of matching funds requirement. Applicants should include a statement for this section that reads as follows: “[INSERT NAME OF APPLICANT] certifies that matching funds will be available at the same time grant funds are anticipated to be spent and that matching funds will be spent in advance of grant funding, such that for every dollar of grant funds advanced, not less than an equal amount of matching funds will have been expended prior to submitting the request for reimbursement.” A separate signature is not required.

C. Submission Dates and Times

Application Deadline Date: March 31, 2006.

Explanation of Deadlines: Paper applications must be POSTMARKED by the deadline date (see Section IV.F. for the address). Final electronic applications must be RECEIVED by Grants.gov by the deadline date. If your application does not meet the deadline above, it will not be considered for funding. You will be notified that your application did not meet the submission deadline. You will also be notified by mail or by e-mail if your application is received on time.

D. Intergovernmental Review of Applications

Executive Order (EO) 12372, Intergovernmental Review of Federal Programs, applies to this program. This EO requires that Federal agencies provide opportunities for consultation on proposed assistance with State and local governments. Many states have established a Single Point of Contact (SPOC) to facilitate this consultation. A list of states that maintain an SPOC may be obtained at http://www.whitehouse.gov/omb/grants/spoc.html. If your state has an SPOC, you may submit your application directly for review. Any comments obtained through the SPOC must be provided to Rural Development for consideration as part of your application. If your state has not established an SPOC, or you do not want to submit your application, Rural Development will submit your application to the SPOC or other appropriate agency or agencies.

You are also encouraged to contact your Rural Development State Office for assistance and questions on this process. You can find the Rural Development State Office in the telephone directory under the Federal government listings, by calling (202) 720-4323 and selecting option “1” or at http://www.rurdev.usda.gov/.

E. Funding Restrictions

Funding restrictions apply to both grant funds and matching funds. Funds may only be used for planning activities or working capital for projects focusing on processing and marketing a value-added product.

1. Examples of acceptable planning activities include to:

i. Obtain legal advice and assistance related to the proposed venture;

ii. Conduct a feasibility analysis of a proposed value-added venture to help determine the potential marketing success of the venture;

iii. Develop a business plan that provides comprehensive details on the management, planning, and other operational aspects of a proposed venture; and

iv. Develop a marketing plan for the proposed value-added product, including the identification of a market window, the identification of potential buyers, a description of the distribution system, and possible promotional campaigns.

2. Examples of acceptable working capital uses include to:

i. Design or purchase an accounting system for the proposed venture;

ii. Pay for salaries, utilities, and rental of office space;

iii. Purchase inventory (not including delivery of a raw commodity to the processing plant), office equipment (e.g. computers, printers, copiers, scanners), and office supplies (e.g. paper, pens, file folders); and

iv. Conduct a marketing campaign for the proposed value-added product.

3. No funds made available under this solicitation shall be used to:

i. Plan, repair, rehabilitate, acquire, or construct a building or facility, including a processing facility;

ii. Purchase, rent, or install fixed equipment, including processing equipment;

iii. Purchase vehicles, including boats;

iv. Pay for the preparation of the grant application;

v. Pay expenses not directly related to the funded Venture;

vi. Fund political or lobbying activities;

vii. Fund any activities prohibited by 7 CFR parts 3015 and 3019;

viii. Fund architectural or engineering design work for a specific physical facility;

ix. Fund any expenses related to the production of any commodity or product to which value will be added, including seed, rootstock, labor for harvesting the crop, and delivery of the commodity to a processing facility. The Agency considers these expenses to be ineligible because the intent of the program is to assist producers with marketing value-added products rather than producing agricultural commodities;

x. Fund research and development;

xi. Purchase land;

xii. Duplicate current services or replace or substitute support previously provided;

xiii. Pay costs of the project incurred prior to the date of grant approval;

xiv. Pay for assistance to any private business enterprise which does not have at least 51 percent ownership by those who are either citizens of the United States or reside in the United States after being legally admitted for permanent residence; or

xv. Pay any judgment or debt owed to the United States; or

xvi. Conduct activities on behalf of anyone other than a specific independent producer or group of independent producers. The Agency considers conducting industry-level feasibility studies and business plans that are also known as feasibility study templates or guides or business plan templates or guides to be ineligible because the assistance is not provided to a specific group of independent producers.

F. Other Submission Requirements

You may submit your paper application for a grant to Cooperative Programs, Attn: VAPG Program, Mail STOP 3250, Room 4016-South, 1400 Independence Ave. SW., Washington, DC 20250-3250. The phone number that should be used for FedEx packages is (202) 720-7558. You may also choose to submit your application electronically at http://www.grants.gov. Final applications may not be submitted by electronic mail, facsimile, or by hand-delivery. Each application submission must contain all required documents in one envelope, if by mail or express delivery service.

V. Application Review Information

A. Criteria

All eligible and complete applications will be evaluated based on the following criteria. Failure to address any one of the following criteria by the application deadline will result in a determination of incomplete and the application will not be considered for funding. Applications for planning grants have different criteria to address than applications for working capital grants. Addressing the incorrect set of criteria will result in a determination of incomplete and the application will not be considered for funding. The total points available for each set of criteria are 73.

1. Criteria for applications for planning grants are:

i. Nature of the proposed venture (0-10 points). Projects will be evaluated for technological feasibility, operational efficiency, profitability, sustainability and the likely improvement to the local rural economy. Points will be awarded based on the greatest expansion of markets and increased returns to producers.

ii. Qualifications of those doing work (0-10 points). Proposals will be reviewed for whether the personnel who are responsible for doing proposed tasks, including those hired to do the studies, have the necessary qualifications. If a consultant or others are to be hired, more points may be awarded if the proposal includes evidence of their availability and commitment as well. If staff or consultants have not been selected at the time of application, the application should include specific descriptions of the qualifications required for the positions to be filled. Also, rather than attaching resumes at the end of the application, it is preferred that the qualifications of the personnel and consultants are discussed directly within the response to this criterion. If resumes are included, they should be contained within the narrative section of the application within the response to this criterion. If resumes are attached at the end of the application, those pages will be counted toward the page limit for the narrative.

iii. Commitments and support (0-10 points). Producer commitments will be evaluated on the basis of the number of independent producers currently involved as well as how many may potentially be involved, and the nature, level and quality of their contributions. End user commitments will be evaluated on the basis of potential markets and the potential amount of output to be purchased. Proposals will be reviewed for evidence that the Project enjoys third party support and endorsement, with emphasis placed on financial and in kind support as well as technical assistance. The applicant may submit up to ten letters of support with the application. Additional letters will not be considered for the purpose of evaluation this criterion. The applicant should reference all additional support in the discussion of this criterion, and have the additional support letters and commitment letters available upon request. These documents will be requested at the time of grant award. Failure to produce them shall result in the withdrawal of the grant award. Points will be awarded based on the greatest level of documented and referenced commitment.

iv. Project leadership (0-10 points). The leadership abilities of individuals who are proposing the venture will be evaluated as to whether they are sufficient to support a conclusion of likely Project success. Credit may be given for leadership evidenced in community or volunteer efforts. Also, rather than attaching resumes at the end of the application, it is preferred that the leadership abilities are discussed directly within the response to this criterion. If resumes are included, they should be contained within the narrative section of the application within the response to this criterion. If resumes are attached at the end of the application, those pages will be counted toward the page limit for the narrative.

v. Work plan/budget (0-10 points). The work plan will be reviewed to determine whether it provides specific and detailed planning task descriptions that will accomplish the Project's goals and the budget will be reviewed for a detailed breakdown of estimated costs associated with the planning activities. The budget must present a detailed breakdown of all estimated costs associated with the planning activities and allocate these costs among the listed tasks. Points may not be awarded unless sufficient detail is provided to determine whether or not funds are being used for qualified purposes. Matching funds as well as grant funds must be accounted for in the budget to receive points. Logical, realistic, and economically efficient work plans and budgets will result in higher scores.

vi. Amount requested (0-1 points). One (1) point will be awarded for grant requests of $50,000 or less. In addressing this criterion, the applicant should simply state the amount requested.

vii. Project cost per owner-producer (0-2 points). This is calculated by dividing the amount of Federal funds requested by the total number of producers that are owners of the venture. The allocation of points for this criterion shall be as follows: $1-$25,000 equals 2 points, $25,001-$50,000 equals 1 point, $50,001-$300,000 equals 0 points. The applicant must state the number of owner-producers that are part of the venture. For independent producers, farmer and rancher cooperatives, and majority-controlled producer-based business ventures, the applicant must state the number of owners of the venture that are independent producers and are also owners of the venture. An owner cannot be considered an independent producer unless he/she is a producer of the agricultural commodity to which value will be added as part of this project. For agriculture producer groups, the number used should be the number of producers represented who produce the commodity to which value will be added. In cases where family members (including husband and wife) are owners and producers in a Venture, each family member shall count as one owner-producer.

Applications without enough information to determine the number of producer-owners will receive 0 points for this criterion.

Applicants must be prepared to prove that the numbers and individuals identified meet the requirements specified upon notification of a grant award. Failure to do so shall result in withdrawal of the grant award.

viii. Business size (10 points if the application meets the criterion or 0 points if the application does not meet the criterion). Applicants must demonstrate their amount of gross sales for their most recent complete fiscal year. Applicants that have less than $100 million in gross sales will receive 10 points. Applicants that have $100 million or more in gross sales will receive 0 points. For this criterion, applicants should simply state the amount of gross sales for their most recent fiscal year. Applicants that are start-up operations and do not yet have a complete fiscal year should state so state in their applications. These applicants will receive the maximum points allowed for this criterion. Applicants that do not provide enough information to determine gross sales will be awarded 0 points for this criterion. If an applicant is tentatively selected for funding, the applicant will need to verify the gross sales amount at the time of award. Failure to verify the amount stated in the application will be grounds for withdrawing the award.

ix. Number of grants (0 points if the application meets the criterion or negative 10 points if the application does not meet the criterion). Applicants must indicate whether they have received any previous grants under the VAPG program since its inception in 2001. Applicants who have already received a planning grant will receive negative 10 points. Applicants who have not received a planning grant will receive 0 points. Applicants that do not provide enough information to determine if they have received previous grants will receive negative 10 points for this criterion.

x. Presidential initiative of bio-energy (0 points if application does not meet the criterion or 5 points if application does meet the criterion). Those applications that have at least 51 percent of Project costs dedicated to planning activities for a qualifying bio-energy project will receive 5 points. If you believe this criterion is not applicable, you must state that in your application. Partial credit will not be given. Qualifying bio-energy projects are limited to on-Farm or on-Ranch production of energy as defined in the “Definitions” section of this notice. Applicants that do not provide enough information to determine if at least 51 percent of project costs are dedicated to a bio-energy component will receive 0 points for this criterion.

xi. Administrator points (up to 5 points, but not to exceed 10 percent of the total points awarded for the other 11 criteria). The Administrator of RBS may award additional points to recognize innovative technologies, insure geographic distribution of grants, or encourage value-added projects in under-served areas. Applicants may submit an explanation of how the technology proposed is innovative and/or specific information verifying that the project is in an under-served area.

2. Criteria for working capital applications are:

i. Business viability (0-10 points). Proposals will be evaluated on the basis of the technical and economic feasibility and sustainability of the venture and the efficiency of operations.

ii. Customer base/increased returns (0-10 points). Describe in detail how the customer base for the product being produced will expand because of the value-added venture. Provide documented estimates of this expansion. Describe in detail how a greater portion of the revenue derived from the venture will be returned to the producers that are owners of the venture. Applicants should also reference the financial statements submitted. Proposals that demonstrate strong growth in a market or customer base and greater value-added revenue accruing to producer-owners will receive more points than those that demonstrate less growth in markets and realized value-added returns.

iii. Commitments and support (0-10 points). Producer commitments will be evaluated on the basis of the number of independent producers currently involved as well as how many may potentially be involved, and the nature and level and quality of their contributions. End user commitments will be evaluated on the basis of identified markets, letters of intent or contracts from potential buyers and the amount of output to be purchased. Proposals will be reviewed for evidence that the project enjoys third party support and endorsement, with emphasis placed on financial and in-kind support as well as technical assistance. The applicant may submit up to ten letters of support with the application. Additional letters will not be considered for the purpose of evaluation this criterion. The applicant should reference all additional support in the discussion of this criterion, and have the additional support letters and commitment letters available upon request. These documents will be requested at the time of grant award. Failure to produce them shall result in the withdrawal of the grant award. Points will be awarded based on the greatest level of documented and referenced commitment.

iv. Management team/work force (0-10 points). The education and capabilities of project managers and those who will operate the venture must reflect the skills and experience necessary to effect project success. The availability and quality of the labor force needed to operate the venture will also be evaluated. Applicants must provide the information necessary to make these determinations. Proposals that reflect successful track records managing similar projects will receive higher points for this criterion than those that do not reflect successful track records.

v. Work plan/budget (0-10 points). The work plan will be reviewed to determine whether it provides specific and detailed task descriptions that will accomplish the project's goals and the budget will be reviewed for a detailed breakdown of estimated costs associated with the proposed activities. The budget must present a detailed breakdown of all estimated costs associated with the venture's operations and allocate these costs among the listed tasks. Points may not be awarded unless sufficient detail is provided to determine whether or not funds are being used for qualified purposes. Matching funds as well as grant funds must be accounted for in the budget to receive points. Logical, realistic, and economically efficient work plans and budgets will result in higher scores.

vi. Amount requested (0-1 points). One (1) point will be awarded for grant requests of $75,000 or less. In addressing this criterion, the applicant should simply state the amount requested.

vii. Project cost per owner-producer (0-2 points). This ratio is calculated by dividing the amount of VAPG funds requested by the total number of producers that are owners of the venture. The allocation of points for this criterion shall be as follows: $1-$50,000 equals 2 points, $50,001-$100,000 equals 1 point, and $100,001-$150,000 equals 0 points. The applicant must state the number of owner-producers that are part of the venture. For independent producers, farmer and rancher cooperatives, and Majority-controlled producer-based business ventures, the applicant must state the number of owners of the venture that are independent producers and are also owners of the venture. An owner cannot be considered an independent producer unless he/she is a producer of the agricultural commodity to which value will be added as part of this project. For agriculture producer groups, the number used should be the number of producers represented who produce the commodity to which value will be added. In cases where family members (including husband and wife) are owners and producers in a venture, each family member shall count as one owner-producer.

Applications without enough information to determine the number of producer-owners will receive 0 points for this criterion.

Applicants must be prepared to prove that the numbers and individuals identified meet the requirements specified upon notification of a grant award. Failure to do so shall result in withdrawal of the grant award.

viii. Business size (10 points if the application meets the criterion or 0 points if the application does meet the criterion). Applicants must demonstrate their amount of gross sales for their most recent complete fiscal year. Applicants that have less than $100 million in gross sales will receive 10 points. Applicants that have $100 million or more in gross sales will receive 0 points. For this criterion, applicants should simply state the amount of gross sales for their most recent fiscal year. If an applicant is tentatively selected for funding, the applicant will need to verify the gross sales amount at the time of award. Applicants that are start-up operations and do not yet have a complete fiscal year should state so state in their applications. These applicants will receive the maximum points allowed for this criterion. Applicants that do not provide enough information to determine gross sales will receive 0 points for this criterion. Failure to verify the amount stated in the application will be grounds for withdrawing the award.

ix. Number of grants (0 points if the application meets the criterion or negative 10 points if the application does not meet the criterion). Applicants must indicate whether they have received any previous grants under the VAPG program since its inception in 2001. Applicants who have already received a working capital grant will receive negative 10 points. Applicants who have not received a working capital grant will receive 0 points. Applicants that do not provide enough information to determine if they have received previous grants will receive negative 10 points for this criterion.

x. Presidential initiative of bio-energy (0 points if application does not meet the criterion or 5 points if application does meet the criterion). Applicants must indicate whether they believe their project has a bio-energy component. If you believe this criterion is not applicable, you must state that in your application. Those applications that have at least 51 percent of Project costs dedicated to working capital for a qualifying bio-energy project will receive 5 points. Partial credit will not be given. Qualifying bio-energy projects are limited to on-Farm or on-Ranch production of energy as defined in the “Definitions” section of this notice. Applicants that do not provide enough information to determine if at least 51 percent of project costs are dedicated to a bio-energy component will receive 0 points for this criterion.

xi. Administrator points (up to 5 points, but not to exceed 10 percent of the total points awarded for the other 10 criteria). The Administrator of RBS may award additional points to recognize innovative technologies, insure geographic distribution of grants, or encourage value-added projects in under-served areas. Applicants may submit an explanation of how the technology proposed is innovative and/or specific information verifying that the project is in an under-served area.

B. Review and Selection Process

Each application will be assigned to a USDA Rural Development State Office, based on the address of the applicant or the location of the project. This state will be known as the servicing State Office. For example, if an applicant has an address in Kansas, the application will be assigned to the Rural Development State Office in Kansas and the Kansas State Office will be the servicing State Office. Applications will then be initially reviewed by Rural Development field office personnel from the servicing State Office for eligibility and to determine whether all required elements are complete. A list of required elements follows:

• SF-424

• SF-424A

• SF-424B

• Title Page

• Table of Contents

• Executive Summary

• Applicant Eligibility Discussion

• Product Eligibility Discussion

• Purpose Eligibility Discussion

• Project Title

• Information Sheet

• Goals of the Project

• Work Plan

• Pro-Forma Financial Statements (working capital applications only)

• Performance Evaluation Criteria

• Proposal Evaluation Criterion i

• Proposal Evaluation Criterion ii

• Proposal Evaluation Criterion iii

• Proposal Evaluation Criterion iv

• Proposal Evaluation Criterion v

• Proposal Evaluation Criterion vi

• Proposal Evaluation Criterion vii

• Proposal Evaluation Criterion viii

• Proposal Evaluation Criterion ix

• Proposal Evaluation Criterion x

• Conflict of Interest Disclosure

• Certification of Judgment

• Verification of Matching Funds

• Certification of Matching Funds.

Incomplete applications that have four or less incomplete required elements and appear to be otherwise eligible will receive a letter requesting the incomplete items be provided within 12 business days of the date the letter was sent. If the requested items are not received when requested or are not complete, the application will not be further evaluated and will not be considered for funding. Any other incomplete or ineligible applications will not be further evaluated and will not be considered for funding.

All eligible and complete proposals will be evaluated by three reviewers based on criteria i through v described in Section V.1 or V.2. One of these reviewers will be a Rural Development employee not from the servicing State Office and the other two reviewers will be non-Federal persons. All reviewers must meet the following qualifications. Reviewers must have obtained at least a bachelors degree in one or more of the following fields: agri-business, business, economics, finance, or marketing. They must also have a minimum of three years of experience in an agriculture-related field (e.g. farming, marketing, consulting, university professor, research, officer for trade association, government employee for an agricultural program). If the reviewer does not have a degree in one of those fields, he/she must possess at least five years of working experience in an agriculture-related field.

Once the scores for criteria i through v have been completed by the three reviewers, the scores will be statistically normalized to correct for any reviewer tendencies to score applications “high” or “low.” After the normalization is complete, the three scores will be converted to ensure compatibility with the additional scores discussed below and then averaged to obtain an independent reviewer score.

The application will also receive one score from the Rural Development servicing State Office based on criteria vi through x. This score will be added to the independent reviewer score.

The servicing State Office will also rank its top three applications according to how the proposed project is expected to benefit the State as a whole. The first-ranked application will be awarded three additional points, the second-ranked application will be awarded two additional points, and the third-ranked application will be awarded one additional point.

Finally, the Administrator of RBS will award any Administrator points based on criteria xi. These points will be added to the cumulative score for criteria i through x and any points received from the servicing State Office ranking score. A final ranking will be obtained based solely on the scores received for criteria i through xi and the servicing State Office ranking score. Eligible applications requesting $25,000 or less will be funded in rank order until $1.5 million in set-aside funds are expended. If the Agency does not receive enough applications to fully expend the set-aside amount, any remaining funds will be used to fund applications requesting more than $25,000. If the Agency receives more eligible applications requesting $25,000 or less than it can fund with the set-aside funds, the applications that rank too low to be funded from the set-aside funds will not be funded. Eligible applications requesting more than $25,000 will be funded in rank order using the non set-aside funds of approximately $17.975 and any funds remaining from the set-aside.

After the award selections are made, all applicants will be notified of the status of their applications by mail. Awardees must meet all statutory and regulatory program requirements in order to receive their award. In the event that an awardee cannot meet the requirements, the award will be withdrawn. Applicants for working capital grants must submit complete, independent third-party feasibility studies and business plans before the grant award can be finalized. All projects will be evaluated by the servicing State Office prior to finalizing the award to ensure that funded Projects are likely to be feasible in the proposed project area. Regardless of scoring, a project determined to be unlikely to be feasible by the Servicing State Office with concurrence by the National Office will not be funded.

C. Anticipated Announcement and Award Dates

Award Date: The announcement of award selections is expected to occur on or about August 31, 2006.

VI. Award Administration Information

A. Award Notices

Successful applicants will receive a notification of tentative selection for funding from Rural Development. Applicants must comply with all applicable statutes, regulations, and this notice before the grant award will receive final approval.

Unsuccessful applicants will receive notification, including mediation procedures and appeal rights, by mail.

B. Administrative and National Policy Requirements

7 CFR parts 3015, 3019, and 4284. These regulations may be accessed at http://www.access.gpo.gov/nara/cfr/cfr-table-search.html#page1.

The following additional requirements apply to grantees selected for this program:

• Grant Agreement.

• Letter of Conditions.

• Form RD 1940-1, “Request for Obligation of Funds.”

• Form RD 1942-46, “Letter of Intent to Meet Conditions.”

• Form AD-1047, “Certification Regarding Debarment, Suspension, and Other Responsibility Matters-Primary Covered Transactions.”

• Form AD-1048, “Certification Regarding Debarment, Suspension, Ineligibility and Voluntary Exclusion-Lower Tier Covered Transactions.”

• Form AD-1049, “Certification Regarding a Drug-Free Workplace Requirements (Grants).”

• Form RD 400-1, “Equal Opportunity Agreement.”

• Form RD 400-4, “Assurance Agreement.”

Additional information on these requirements can be found at http://www.rurdev.usda.gov/rbs/coops/vadg.htm.

Reporting Requirements: You must provide Rural Development with a hard copy original or an electronic copy that includes all required signatures of the following reports. The reports should be submitted to the Agency contact listed on your grant agreement and Letter of Conditions. Failure to submit satisfactory reports on time may result in suspension or termination of your grant.

1. Form SF-269 or SF-269A. A “Financial Status Report,” listing expenditures according to agreed upon budget categories, on a semi-annual basis. Reporting periods end each March 31 and September 30. Reports are due 30 days after the reporting period ends.

2. Semi-annual performance reports that compare accomplishments to the objectives stated in the proposal. Identify all tasks completed to date and provide documentation supporting the reported results. If the original schedule provided in the work plan is not being met, the report should discuss the problems or delays that may affect completion of the project. Objectives for the next reporting period should be listed. Compliance with any special condition on the use of award funds should be discussed. Reports are due as provided in paragraph (1) of this section. Supporting documentation must also be submitted for completed tasks. The supporting documentation for completed tasks include, but are not limited to, feasibility studies, marketing plans, business plans, articles of incorporation and bylaws and an accounting of how working capital funds were spent.

3. Final Project performance reports that compare accomplishments to the objectives stated in the proposal. Identify all tasks completed and provide documentation supporting the reported results. If the original schedule provided in the work plan was not met, the report must discuss the problems or delays that affected completion of the project. Compliance with any special condition on the use of award funds should be discussed. Supporting documentation for completed tasks must also be submitted. The supporting documentation for completed tasks include, but are not limited to, feasibility studies, marketing plans, business plans, articles of incorporation and bylaws and an accounting of how working capital funds were spent. Planning grant projects must also report the estimated increase in revenue, increase in customer base, number of jobs created, and any other relevant economic indicators generated by continuing the project into its operational phase. Working capital grants must report the increase in revenue, increase in customer base, number of jobs created, any other relevant economic indicators generated by the project during the grant period in addition to the total funds used for the Venture during the grant period. These total funds must include other federal, state, local, and other funds used for the venture. Projects with significant energy components must also report expected or actual capacity (e.g. gallons of ethanol produced annually, megawatt hours produced annually) and any emissions reductions incurred during the project. The final performance report is due within 90 days of the completion of the project.

VII. Agency Contacts

For general questions about this announcement and for program technical assistance, please contact your USDA Rural Development State Office at http://www.rurdev.usda.gov/rbs/coops/vadg.htm. You can also reach your State Office by calling (202) 720-4323 and pressing “1”. If you are unable to contact your State Office, please contact a nearby State Office or you may contact the RBS National Office at Mail STOP 3250, Room 4016-South, 1400 Independence Avenue, SW., Washington, DC 20250-3250, Telephone: (202) 720-7558, e-mail: cpgrants@wdc.usda.gov.

VIII. Other Information

It is suggested that applicants visit the Agricultural Marketing Resource Center (AgMRC) at http://www.agmrc.org for additional information on value-added agriculture. AgMRC brings together experts from three of the nation's leading agricultural universities—Iowa State University, Kansas State University and the University of California—into a dynamic, electronically based center to create and present information about value-added agriculture. The center draws on the abilities, skills and knowledge of leading economists, business strategists and outreach specialists to provide reliable information needed by independent producers to achieve success and profitability in value-added agriculture. Partial support for the center is derived from a grant administered by RBS.

Dated: December 12, 2005.
Thomas C. Dorr,
Under Secretary, Rural Development.

[FR Doc. E5-7596 Filed 12-20-05; 8:45 am]

BILLING CODE 3410-XY-P